ENVIRONMENTAL PROTECTION AGENCY

40 CFR Part 52

[R08-OAR-2005-UT-0002; FRL-7939-8]

Approval and Promulgation of Air Quality Implementation Plans; State of Utah; Salt Lake City Revised Carbon Monoxide Maintenance Plan and Approval of Related Revisions

Correction

In rule document 05-15150 beginning on page 44055 in the issue of Monday, August 1, 2005, make the following corrections:

1. On page 44058, in the first column, in the table, under the heading “Source category” the fourth entry should read “On-Road ”.

2. On page 44061, in table “V-2” in the second column, the heading “On-road source emissions” should read “On-road mobile source emissions”.

[FR Doc. C5-15150 Filed 9-21-05; 8:45 am]

BILLING CODE 1505-01-D